DEPARTMENT OF COMMERCE

National Oceanic and Atmospheric Administration

RIN 0648-XE150

Mid-Atlantic Fishery Management Council (MAFMC); Public Meeting

AGENCY: National Marine Fisheries Service (NMFS), National Oceanic and Atmospheric Administration (NOAA), Commerce.

ACTION: Notice; public scoping meetings.

SUMMARY: The Mid-Atlantic Fishery Management Council will hold eight scoping hearings in September and October 2015 to solicit public input on a management action to prohibit the development of new, or expansion of existing directed fisheries on unmanaged forage species until adequate scientific information is available to promote ecosystem sustainability. The Council is also soliciting written comments through 11:59 p.m. on Friday October 2, 2015. The Council has not yet determined which type of action it will develop. The action could take the form of a new fishery management plan, an amendment to an existing fishery management plan, or another action.

DATES: The meetings will be held over several weeks between September 15, 2015 and October 1, 2015 as described below in SUPPLEMENTARY INFORMATION.

ADDRESSES: The Council will hold eight scoping meetings. See SUPPLEMENTARY INFORMATION for specific dates, times, and locations.

Addresses for written comments: Written comments may be sent through mail, email, or fax through 11:59 p.m. on Friday October 2, 2015. Comments may be mailed to: Dr. Chris Moore, Executive Director, Mid-Atlantic Fishery Management Council, 800 North State Street, Suite 201, Dover, DE 19901. Comments may be faxed to: Dr. Chris Moore, Executive Director, Mid-Atlantic Fishery Management Council at fax: (302) 674-5399. Comments may be emailed to Julia Beaty, Assistant Fishery Plan Coordinator, at jbeaty@mafmc.org. If sending comments through the mail, please write “unmanaged forage scoping comments” on the outside of the envelope. If sending comments through email or fax, please write “unmanaged forage scoping comments” in the subject line.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255. More information, including background materials and information on meeting locations will be posted at www.mafmc.org/actions/unmanaged-forage.

SUPPLEMENTARY INFORMATION: The dates, times and locations of the scoping meetings are as follows:

1. Tuesday, September 15, 2015, 6:30 p.m.-8:30 p.m., North Carolina Department of Marine Fisheries, Washington Regional Office Hearing Room, 943 Washington Square Mall, Highway 17, Washington, NC 27889; telephone: (252) 946-6481.

2. Wednesday, September 16, 2015, 6 p.m.-8 p.m., Virginia Marine Resources Commission, 4th Floor Meeting Room, 2600 Washington Avenue, Newport News, VA 23607; telephone: (757) 247-2200.

3. Thursday, September 17, 2015, 6:30 p.m.-8:30 p.m., Congress Hall Hotel, 200 Congress Place, Cape May, NJ 08294; telephone: (844) 264-5030.

4. Monday September 21, 2015. 6:30 p.m.-8:30 p.m., Kingsborough Community College, Building T-3, 2001 Oriental Boulevard, Brooklyn, NY 11235; telephone: (718) 368-5000.

5. Monday, September 28, 2015, 6:30 p.m.-8:30 p.m., University of Rhode Island, Bay Campus, Corless Auditorium, 215 South Ferry Road, Narragansett, RI 02882; telephone: (401) 874-6222.

6. Tuesday, September 29, 2015, 6:30 p.m.-8:30 p.m., New York Department of Environmental Conservation, Bureau of Marine Resources, Hearing Room, 205 North Bell Mead Road, Suite 1, East Setauket, NY 11733; telephone: (631) 444-0430.

7. Wednesday, September 30, 2015, 6:30 p.m.-8:30 p.m., Worcester County Library, Ocean Pines Branch, Meeting Room, 11107 Cathell Road, Berlin, MD 21811; telephone: (410) 208-4014.

8. Thursday, October 1, 2015, 6:30 p.m.-8:30 p.m., Webinar. Information on how to connect to the webinar will be available on the events page of the Council Web site: www.mafmc.org/council-events/. There will be an audio only option which will require a phone connection.

The goal of this action is to proactively protect the ecosystem role of unmanaged forage species. In this context, “unmanaged” refers to species not currently managed by the Mid-Atlantic, New England, or South Atlantic Fishery Management Councils, or the Atlantic States Marine Fisheries Commission. The Council has not yet determined which type of action it will develop. The action could take the form of a new fishery management plan, an amendment to an existing fishery management plan, or another action.

Scoping is the process of identifying issues, potential impacts, and a reasonable range of alternatives associated with a management action. Scoping provides the first and best opportunity for the public to make suggestions and raise concerns about new Council actions. Public comments early in the development of this action will help the Council identify effective management alternatives and issues of concern.

Special Accommodations

These meetings are physically accessible to people with disabilities. Requests for sign language interpretation or other auxiliary aid should be directed to M. Jan Saunders, (302) 526-5251, at least 5 days prior to the meeting date.

Dated: August 26, 2015.
Tracey L. Thompson,
Acting Deputy Director, Office of Sustainable Fisheries, National Marine Fisheries Service.

[FR Doc. 2015-21447 Filed 8-28-15; 8:45 am]

BILLING CODE 3510-22-P